DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is publishing the names of one or more persons that have been removed from the SDN List. Their property and interests in property are no longer blocked, and U.S. persons are no longer generally prohibited from engaging in transactions with them.

DATES: See SUPPLEMENTARY INFORMATION section for effective date(s).

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Actions

On December 13, 2019, OFAC determined that the property and interests in property subject to U.S. jurisdiction of the following persons are blocked under the relevant sanctions authority listed below.

Individuals

1. AHMAD, Nazem Said (a.k.a. AHMAD, Nazem Ali; a.k.a. AHMAD, Nazem Saeed; a.k.a. AHMAD, Nazim; a.k.a. AHMAD, Nazim Sa'id; a.k.a. AHMAD, Nizam Saed; a.k.a. AHMED, Nazem Said; a.k.a. AHMED, Nazem Saied), Mteferraa From Es Semrlnd, Beirut, Lebanon; DOB 05 Jan 1965; POB Sierra Leone; nationality Lebanon; citizen Belgium; Additional Sanctions Information—Subject to Secondary Sanctions Pursuant to the Hizballah Financial Sanctions Regulations; Gender Male (individual) [SDGT] (Linked To: HIZBALLAH).

Designated pursuant to section 1(a)(iii)(C) of Executive Order 13224 of September 23, 2001, “Blocking Property and Prohibiting Transactions With Persons Who Commit, Threaten to Commit, or Support Terrorism”, 3 CFR, 2001 Comp., p. 786, as amended by Executive Order 13886 of September 9, 2019, “Modernizing Sanctions To Combat Terrorism,” 84 FR 48041 (E.O. 13224, as amended), for having materially assisted, sponsored, or provided financial, material, or technological support for, or goods or services to or in support of HIZBALLAH, a person whose property and interests in property are blocked pursuant to E.O. 13224, as amended.

2. ASSI, Saleh (a.k.a. 'ASI, Salih 'Ali; a.k.a. ASSI, Salah; a.k.a. ASSI, Saleh Ali; a.k.a. ASSI, Salih), Congo, Democratic Republic of the; Etage 5 (5th Floor), 3 Avenue Bosquet, Paris 27007, France; Bashoura, Beirut, Lebanon; Immeuble Verdun 750, 5E Etage-Rue Rachid Karame Verdun, Beyrouth, Lebanon; DOB 14 May 1960; citizen France; Gender Male; Passport 04FE50421 (France) (individual) [SDGT] (Linked To: TABAJA, Adham Husayn).

Designated pursuant to section 1(a)(iii)(C) of Executive Order 13224, as amended, for having materially assisted, sponsored, or provided financial, material, or technological support for, or goods or services to or in support of ADHAM TABAJA, a person whose property and interests in property are blocked pursuant to E.O. 13224, as amended.

3. SAAB, Tony (a.k.a. SA'B, Tony Boutros; a.k.a. SA'B, Tony Butrus), Tannourine Tahta, Batroun, Lebanon; DOB 20 May 1977; Gender Male (individual) [SDGT] (Linked To: ASSI, Saleh).

Designated pursuant to section 1(a)(iii)(C) of Executive Order 13224, as amended, for having materially assisted, sponsored, or provided financial, material, or technological support for, or goods or services to or in support of SALEH ASSI, a person whose property and interests in property are blocked pursuant to E.O. 13224, as amended.

Entities

1. ARAMOUN 1506 SAL, Jnah, Adnan Al Hakim Street, Al Wazeer Building, First Floor, Real Estate No. 3673, Beirut, Lebanon; Commercial Registry Number 1013408 (Lebanon) [SDGT] (Linked To: AHMAD, Nazem Said).

Designated pursuant to section 1(a)(iii)(A) of E.O. 13224, as amended, for being owned, controlled, or directed by NAZEM SAID AHMAD, a person whose property and interests in property are blocked pursuant to E.O. 13224, as amended.

2. BEIRUT DIAM SAL (a.k.a. BEIRUT DIAM COMPANY SAL), Downtown Beirut, Solidere, Property No. 1479 of Marfa Real Estate, Block A, 4th Floor, Beirut, Lebanon; Commercial Registry Number 1005283 (Lebanon) [SDGT] (Linked To: AHMAD, Nazem Said).

Designated pursuant to section 1(a)(iii)(A) of E.O. 13224, as amended, for being owned, controlled, or directed by NAZEM SAID AHMAD, a person whose property and interests in property are blocked pursuant to E.O. 13224, as amended.

3. BEIRUT GEM SAL (a.k.a. BEIRUT GM SAL), Downtown Beirut, Solidere, Property No. 1479 of Marfa Real Estate, Block A, 4th Floor, Beirut, Lebanon; Commercial Registry Number 1005284 (Lebanon) [SDGT] (Linked To: AHMAD, Nazem Said).

Designated pursuant to section 1(a)(iii)(A) of E.O. 13224, as amended, for being owned, controlled, or directed by NAZEM SAID AHMAD, a person whose property and interests in property are blocked pursuant to E.O. 13224, as amended.

4. BEIRUT TRADE SAL, Maarad Street, Solidere King, Property 200, Harbor, Beirut, Lebanon; Building 200, Maarad Street, Beirut, Lebanon; Commercial Registry Number 1004271 (Lebanon) [SDGT] (Linked To: AHMAD, Nazem Said).

Designated pursuant to section 1(a)(iii)(A) of E.O. 13224, as amended, for being owned, controlled, or directed by NAZEM SAID AHMAD, a person whose property and interests in property are blocked pursuant to E.O. 13224, as amended.

5. BLUE STAR DIAMOND SAL—OFFSHORE, Ramla Al Bayda, Al Bizri Street, Beirut, Lebanon; Commercial Registry Number 1800235 (Lebanon) [SDGT] (Linked To: AHMAD, Nazem Said).

Designated pursuant to section 1(a)(iii)(A) of E.O. 13224, as amended, for being owned, controlled, or directed by NAZEM SAID AHMAD, a person whose property and interests in property are blocked pursuant to E.O. 13224, as amended.

6. DAMOUR 850 SAL, Jnah, Adnan Al Hakim Street, Minister Building, First Floor, Beirut, Lebanon; Commercial Registry Number 1013407 (Lebanon) [SDGT] (Linked To: AHMAD, Nazem Said).

Designated pursuant to section 1(a)(iii)(A) of E.O. 13224, as amended, for being owned, controlled, or directed by NAZEM SAID AHMAD, a person whose property and interests in property are blocked pursuant to E.O. 13224, as amended.

7. DEBBIYE 143 SAL (a.k.a. AL DIBIYA 143 SAL), Adnane Al Hakim Street, Al-Wazeer Building, First Floor, Building No. 3673, Msaytbeh, Beirut, Lebanon; Commercial Registry Number 1013410 (Lebanon) [SDGT] (Linked To: AHMAD, Nazem Said).

Designated pursuant to section 1(a)(iii)(A) of E.O. 13224, as amended, for being owned, controlled, or directed by NAZEM SAID AHMAD, a person whose property and interests in property are blocked pursuant to E.O. 13224, as amended.

8. GEBAA 2480 SAL (a.k.a. JEBAA 2480 SAL), Adnan Al Hakim Street, Al Wazeer Building, First Floor, Building No. 3672, Msaytbeh, Beirut, Lebanon; Commercial Registry Number 1013406 (Lebanon) [SDGT] (Linked To: AHMAD, Nazem Said).

Designated pursuant to section 1(a)(iii)(A) of E.O. 13224, as amended, for being owned, controlled, or directed by NAZEM SAID AHMAD, a person whose property and interests in property are blocked pursuant to E.O. 13224, as amended.

9. MONTECARLO BEACH SAL, Beirut, Lebanon; Commercial Registry Number 44925 (Lebanon) [SDGT] (Linked To: AHMAD, Nazem Said).

Designated pursuant to section 1(a)(iii)(A) of E.O. 13224, as amended, for being owned, controlled, or directed by NAZEM SAID AHMAD, a person whose property and interests in property are blocked pursuant to E.O. 13224, as amended.

10. NOUMAYRIYE 1057 SAL (a.k.a. NUMEIRIYA 1057 SAL), Adnan Al Hakim Street, Al Wazeer Building, First Floor, Building No. 3673, Msaytbeh, Beirut, Lebanon; Commercial Registry Number 1013409 (Lebanon) [SDGT] (Linked To: AHMAD, Nazem Said).

Designated pursuant to section 1(a)(iii)(A) of E.O. 13224, as amended, for being owned, controlled, or directed by NAZEM SAID AHMAD, a person whose property and interests in property are blocked pursuant to E.O. 13224, as amended.

11. NOUR HOLDING SAL (a.k.a. NOOR HOLDING SAL), Bizri Street, Beirut, Lebanon; Commercial Registry Number 1901008 (Lebanon) [SDGT] (Linked To: AHMAD, Nazem Said).

Designated pursuant to section 1(a)(iii)(A) of E.O. 13224, as amended, for being owned, controlled, or directed by NAZEM SAID AHMAD, a person whose property and interests in property are blocked pursuant to E.O. 13224, as amended.

12. AL YUMUN REAL ESTATE COMPANY SAL, Beirut, Lebanon; Commercial Registry Number 48642 (Lebanon) [SDGT] (Linked To: ASSI, Saleh).

Designated pursuant to section 1(a)(iii)(A) of E.O. 13224, as amended, for being owned, controlled, or directed by SALEH ASSI, a person whose property and interests in property are blocked pursuant to E.O. 13224, as amended.

13. INTER ALIMENT SAL OFF-SHORE (a.k.a. INTERALIMENT OFFSHORE COMPANY), Verdun 732 Center 3377/74 Mousseitbeh, Dar El-Fatwa Sector, Rachid Karame Sreet, Beirut, Lebanon; Verdun—Center, 730, Section 74 of the property 3377, Area Msaytbeh Real Estate—the fifth floor, Beirut, Lebanon; 732 Center, 5th Floor, Verdun Street, Beirut, Lebanon; D-U-N-S Number 557757412; Phone Number 9611797101; Registration ID 1239305; Commercial Registry Number 1801267 (Lebanon) [SDGT] (Linked To: ASSI, Saleh).

Designated pursuant to section 1(a)(iii)(A) of E.O. 13224, as amended, for being owned, controlled, or directed by SALEH ASSI, a person whose property and interests in property are blocked pursuant to E.O. 13224, as amended.

14. MINOCONGO (a.k.a. MINO CONGO; a.k.a. MINOTERIE DU CONGO SPRL), Avenue Konda-Konda No 2, Commune De Ngaliema, Kinshasa 180, Congo, Democratic Republic of the; D-U-N-S Number 850461914 [SDGT] (Linked To: ASSI, Saleh).

Designated pursuant to section 1(a)(iii)(A) of E.O. 13224, as amended, for being owned, controlled, or directed by SALEH ASSI, a person whose property and interests in property are blocked pursuant to E.O. 13224, as amended.

15. PAIN VICTOIRE (a.k.a. PAINS VICTOIRE; a.k.a. PAN VICTOIRE; a.k.a. SOCIETE GENERAL DES PAINS SPRL; a.k.a. SOCIETE GENERALE DE PAIN; a.k.a. SOCIETE GENERALE DES PAINS), 22 Avenue Konda, Kinshasa, Congo, Democratic Republic of the; D-U-N-S Number 558023852 [SDGT] (Linked To: ASSI, Saleh).

Designated pursuant to section 1(a)(iii)(A) of E.O. 13224, as amended, for being owned, controlled, or directed by SALEH ASSI, a person whose property and interests in property are blocked pursuant to E.O. 13224, as amended.

16. SALASKO OFFSHORE S.A.L., Verdun, Beirut, Lebanon; Commercial Registry Number 1801152 (Lebanon) [SDGT] (Linked To: ASSI, Saleh).

Designated pursuant to section 1(a)(iii)(A) of E.O. 13224, as amended, for being owned, controlled, or directed by SALEH ASSI, a person whose property and interests in property are blocked pursuant to E.O. 13224, as amended.

17. TRANS GAZELLE (a.k.a. TRANS GAZELLE SPRL; a.k.a. TRANSGAZELLE), Congo, Democratic Republic of the [SDGT] (Linked To: ASSI, Saleh).

Designated pursuant to section 1(a)(iii)(A) of E.O. 13224, as amended, for being owned, controlled, or directed by SALEH ASSI, a person whose property and interests in property are blocked pursuant to E.O. 13224, as amended.

Vessel

1. FLYING DRAGON Pleasure Craft Malta flag; Vessel Registration Identification IMO 9752216; MMSI 248297000 (vessel) [SDGT] (Linked To: ASSI, Saleh).

Identified as property in which SALEH ASSI has an interest, a person whose property and interests in property are blocked pursuant to E.O. 13224, as amended.

On December 13, 2019, OFAC determined that the property and interests in property subject to U.S. jurisdiction of the following persons are unblocked, and removed these persons from the SDN List.

Entities

Dated: December 13, 2019.
Andrea Gacki,
Director, Office of Foreign Assets Control.

[FR Doc. 2019-27434 Filed 12-19-19; 8:45 am]

BILLING CODE 4810-AL-P